DEPARTMENT OF ENERGY

Federal Energy Regulatory Commission

[Project No. 2088-068]

South Feather Water and Power Agency, California; Notice of Availability of the Final Environmental Impact Statement for the South Feather Power Project

June 4, 2009.

In accordance with the National Environmental Policy Act of 1969 and the Federal Energy Regulatory Commission's (Commission) regulations, 18 CFR Part 380 (Order No. 486, 52 FR 47897), the Office of Energy Projects has reviewed the application for license for the South Feather Water and Power Agency's 117-megawatt South Feather Power Project (Project No. 2088), located on the South Fork Feather River (SFFR), Lost Creek, and Slate Creek, in Butte, Yuba, and Plumas counties, California and has prepared a final Environmental Impact Statement (final EIS) for the project. The project occupies about 1,977 acres of federal lands administered by the Plumas National Forest and 11 acres of federal lands administered by the U.S. Bureau of Land Management.

The final EIS contains staff's evaluations of the applicant's proposal and alternatives for relicensing the South Feather Power Project. The final EIS documents the views of governmental agencies, non-governmental organizations, affected Indian tribes, the public, the license applicant, and Commission staff.

Copies of the final EIS are available for review in the Commission's Public Reference Branch, Room 2A, located at 888 First Street, NE., Washington, DC 20426. The final EIS also may be viewed on the Commission's Web site at http://www.ferc.gov under the eLibrary link. Enter the docket number (P-2088) in the docket number field to access the document. For assistance, contact FERC Online Support at FERCOnlineSupport@ferc.gov or toll-free at 1-866-208-3676, or for TTY, (202) 502-8659.

CD versions of the final EIS have been mailed to everyone on the mailing list for the project. Copies of the CD, as well as a limited number of paper copies, are available from the Public Reference Room identified above.

You may also register online at http://www.ferc.gov/docs-filing/esubscription.asp to be notified via e-mail of new filings and issuances related to these or other pending projects. For assistance, contact FERC Online Support.

For further information, contact John Mudre at (202) 502-8902 or at john.mudre@ferc.gov.

Kimberly D. Bose,
Secretary.

[FR Doc. E9-13674 Filed 6-10-09; 8:45 am]

BILLING CODE 6717-01-P